DEPARTMENT OF COMMERCE

Bureau of Industry and Security

15 CFR Part 774

The Commerce Control List

CFR Correction

In the Federal Register published on July 26, 2012, on page 43711, in the third column, in instruction 3.C., “5A003” is corrected to read “5A002”.

[FR Doc. 2012-19955 Filed 8-13-12; 8:45 am]

BILLING CODE 1505-01-D